DEPARTMENT OF HOUSING AND URBAN DEVELOPMENT

[Docket No. FR-7092-N 28; OMB Control No.: 2577-0178]

30-Day Notice of Proposed Information Collection: Family Self-Sufficiency

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: October 2, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, PRA Compliance Officer, Paperwork Reduction Act Division, PRAD, Department of Housing and Urban Development, 451 7th Street SW, Room 8210, Washington, DC 20410; email at PaperworkReductionActOffice@hud.gov, ATTN: Anna Guido, telephone (202) 402-5535. This is not a toll-free number. HUD welcomes and is prepared to receive calls om individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A. The Federal Register notice that solicited public comment on the information collection for a period of 60 days was published on September 23, 2024 at 89 FR 77537.

A. Overview of Information Collection

Title of Information Collection: Family Self-Sufficiency.

OMB Approval Number: 2577-0178.

Type of Request: Reinstatement with changes.

Form Number: HUD Form—52650, HUD Form—52651, HUD Form—52651-B, HUD Form—52651-C, HUD Form—52653.

Description of the need for the information and proposed use: This collection includes application, implementation and reporting for the Family Self-Sufficiency program.

Information collection | Number of responses | Responses per year | Total annual responses | Hours per response | Total hours | Cost per hour | Annual cost
Application
SF-424—Application for Federal Assistance * OMB Number: 4040-0004 | 1,000 | 1 | 1,000 | 0 | 0 | 0 | 0
HUD-424-B—Applicant and Recipient Assurances and Certifications * OMB Number 2510-0017 | 1,000 | * 1 | 1,000 | 0 | 0 | 0 | 0
SF-LLL—Disclosure of Lobbying Activities * OMB Number: 4040-0013 | 40 | * 1 | 40 | 0 | 0 | 0 | 0
Applicant, Recipient, Disclosure, Update HUD Form -2880 * OMB Number: 2501-0044 | 1,000 | * 1 | 1,000 | 0 | 0 | 0 | 0
Program Narrative | 1,000 | 1 | 1,000 | 10 | 10,000 | $45.14 | $ 451,400.00
FSS Application HUD-52651 | 1,000 | 1 | 1,000 | 0.5 | 500 | 45.14 | 22,570.00
Notice of Award and Terms & Conditions ** (AKA Grant Agreement) | 1,000 | 1 | 1,000 | 0 | 0 | 0 | 0
Implementation
FSS Action Plan-New Grantees (if grants to new entities are made) | 200 | 1 | 200 | 10 | 2,000 | 45.14 | 90,280.00
Contract of Participation HUD-52650 | 1,000 | 25 | 25,000 | 1 | 25,000 | 45.14 | 1,128,500.00
Cooperative Agreements | 250 | 1 | 250 | 2 | 500 | 45.14 | 22,570.00
Reporting
FSS Annual Survey HUD-52651-C | 1,000 | 1 | 1,000 | 1 | 1,000 | 45.14 | 45,140
Form HUD-50058—Family Report (standard, MTW and MTW-expansion) OMB No. 2577-0083 | 800 | 100 | 80,000 | 0 | 0 | 0 | 0
FSS Monitoring Review Self-Assessment Checklist HUD-52651-B | 800 | 0.2 | 160 | 2 | 320 | 45.14 | 14,444.80
PBRA FSS Reporting Tool HUD-52653 | 200 | 1 | 200 | 1 | 200 | 45.14 | 9,028.00
SF-425 Federal Financial Report * OMB No. 4040-0014 | 1,000 | 1 | 1,000 | 0 | 0 | 0 | 0
Total | 5,450 | 31.2 | 28,810 | 27.5 | 39,520 |  | 1,782,932.80
Burden hours for forms showing zero burden hours in this collection are reflected in the OMB approval number cited or do not have a reportable burden. Additionally, numbers with an asterisk (*) next to them are not calculated in the total estimate displayed in the last row in the above table because they are captured in a different information collection. HUD-1044, Award/Amendment is completed by HUD staff, signed by the recipient of the grant, and returned to HUD. This form is a certification, and HUD ascribes no burden to its use.

The total annual burden of this collection is expected to be 39,520 hours. The total estimated annual cost for this information collection is $1,782,932.80.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department PRA Compliance Officer, Office of Policy Development and Research, Chief Data Officer.

[FR Doc. 2025-16792 Filed 8-29-25; 8:45 am]

BILLING CODE 4210-67-P